DEPARTMENT OF ENERGY

Federal Energy Regulatory Commission

Combined Notice of Filings

Take notice that the Commission has received the following Natural Gas Pipeline Rate and Refund Report filings:

Docket Numbers: RP21-302-000.

Applicants: Northern Border Pipeline Company.

Description: § 4(d) Rate Filing: NBPL Sequent NRA to be effective 11/1/2020.

Filed Date: 12/7/20.

Accession Number: 20201207-5111.

Comments Due: 5 p.m. ET 12/21/20.

Docket Numbers: RP21-304-000.

Applicants: Transwestern Pipeline Company, LLC.

Description: § 4(d) Rate Filing: Revise Contracting Procedures to be effective 1/9/2021.

Filed Date: 12/9/20.

Accession Number: 20201209-5026.

Comments Due: 5 p.m. ET 12/21/20.

Docket Numbers: RP21-305-000.

Applicants: Bear Creek Storage Company, L.L.C.

Description: Compliance filing Annual Fuel Summary 2020 to be effective N/A.

Filed Date: 12/10/20.

Accession Number: 20201210-5015.

Comments Due: 5 p.m. ET 12/22/20.

Docket Numbers: RP21-306-000.

Applicants: Iroquois Gas Transmission System, L.P.

Description: § 4(d) Rate Filing: 121020 Negotiated Rates—Mercuria Energy America, LLC R-7540-02 to be effective 1/1/2021.

Filed Date: 12/10/20.

Accession Number: 20201210-5040.

Comments Due: 5 p.m. ET 12/22/20.

Docket Numbers: RP21-307-000.

Applicants: Equitrans, L.P.

Description: § 4(d) Rate Filing: Standards of Conduct Update to be effective 1/10/2021.

Filed Date: 12/10/20.

Accession Number: 20201210-5114.

Comments Due: 5 p.m. ET 12/22/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2020.
Kimberly D. Bose,
Secretary.

[FR Doc. 2020-27795 Filed 12-16-20; 8:45 am]

BILLING CODE 6717-01-P